DEPARTMENT OF THE INTERIOR

Bureau of Indian Affairs

[201D0102DR/DS5A300000/DR.5A311.IA000118]

Land Acquisitions; Osage Nation, Bartlesville Property, Oklahoma

AGENCY: Bureau of Indian Affairs, Interior.

ACTION: Notice.

SUMMARY: The Assistant Secretary—Indian Affairs made a final agency determination to acquire 125 acres, more or less, of land in trust for the Osage Nation for gaming and other purposes on June 26, 2020.

FOR FURTHER INFORMATION CONTACT: Ms. Paula L. Hart, Director, Office of Indian Gaming, Mailstop 3543, 1849 C Street NW, Washington, DC 20240, telephone (202) 219-4066.

SUPPLEMENTARY INFORMATION: On June 26, 2020, the Assistant Secretary—Indian Affairs made a final agency determination to accept land into trust for the Osage Nation under the authority of the Indian Reorganization Act of June 18, 1934, 25 U.S.C. 5108. The Assistant Secretary—Indian Affairs also determined that the Osage Nation meets the requirements of the Indian Gaming Regulatory Act's “Oklahoma exception,” 25 U.S.C. 2719(a)(2)(A)(i), to the general prohibition contained in 25 U.S.C. 2719(a) on gaming on lands acquired in trust after October 17, 1988.

The Assistant Secretary—Indian Affairs, on behalf of the Secretary of the Interior, will immediately acquire title to the Bartlesville Property, 125 acres, more or less, in the name of the United States of America in trust for the Osage Nation, upon fulfillment of all Departmental requirements. The 125 acres, more or less, are described as follows:

Legal Description of Property

Surface Only

The SE¼ of the NW¼ and the W½ of the NE¼ of Section 8, Township 26 North, Range 12 East, of the Indian Base and Meridian, Osage County, Oklahoma, according to the U.S. Government Survey thereof.

Less and except Tracts A and B located in the NW¼ of the NE¼ of Section 8, Township 26 North, Range 12 East, fdescribed as follows:

Tract A

Commencing at the northwest corner of the NW¼ of the NE¼ of Section 8, thence South 01°57′28″ East along the westerly line thereof 98.19 feet to the point of beginning; thence continuing South 01°57′28″ East along the westerly line thereof for 126.98 feet; thence South 89°09′03″ East for 285.22 feet; thence North 81°13′42″ East for 188.48 feet; thence North 0°09′01″ West for 103.64 feet; thence South 89°50'59” West for 475.54 feet to the point of beginning, containing 1.357 acres, more or less.

Tract B

Commencing at the northeast corner of the NW¼ of the NE¼ of Section 8, thence South 01°00′03″ East along the easterly line thereof for 49.07 feet to the point of beginning; thence South 01°00′03″ East continuing along the easterly line thereof for 126.70 feet; thence North 89°09′06″ West for 283.38 feet; thence North 00°50′57″ East for 6.50 feet; thence North 00°09′01″ West for 115.24 feet; thence North 89°50′57″ East for 281.34 feet to the point of beginning, containing 0.805 acre, more or less.

Containing 125.48 acres, more or less.

Authority: This notice is published in the exercise of authority delegated by the Secretary of the Interior to the Assistant Secretary—Indian Affairs by 209 Departmental Manual 8.1, and is published to comply with the requirements of 25 CFR 151.12 (c)(2)(ii) that notice of the decision to acquire land in trust be promptly provided in the Federal Register.

Tara Sweeney,
Assistant Secretary—Indian Affairs.

[FR Doc. 2020-15489 Filed 7-16-20; 8:45 am]

BILLING CODE 4337-15-P